DEPARTMENT OF TRANSPORTATION

Federal Aviation Administration

Public Notice for Waiver of Aeronautical Land-Use Assurance; Rickenbacker International Airport, Columbus, OH

AGENCY: Federal Aviation Administration, DOT.

ACTION: Notice of intent of waiver with respect to land.

SUMMARY: The Federal Aviation Administration (FAA) is considering a proposal to change a portion of the airport from aeronautical use to non-aeronautical use and to authorize the release of 250.357 acres of vacant airport property currently being used for agricultural purposes for the proposed development of bulk warehouse/distribution facilities as a component of the Rickenbacker Global Logistics Park. The land was acquired by the Rickenbacker Port Authority through Quitclaim Deed dated March 30, 1984 from the Administrator of General Services for the United States of America. There are no impacts to the airport by allowing the airport to dispose of the property. Approval does not constitute a commitment by the FAA to financially assist in the disposal of the subject airport property nor a determination of eligibility for grant-in-aid funding from the FAA. The CRAA will receive $5,383,000 for the parcel. In accordance with section 47107(h) of title 49, United States Code, this notice is required to be published in the Federal Register 30 days before modifying the land-use assurance that requires the property to be used for an aeronautical purpose.

DATES: Comments must be received on or before April 16, 2007.

ADDRESSES: Written comments on the Sponsor's request must be delivered or mailed to: Mary W. Jagiello, Program Manager, Detroit Airports District Office, 11677 South Wayne Road, Suite 107, Romulus, MI 48174.

FOR FURTHER INFORMATION CONTACT: Mary W. Jagiello, Program Manager, Federal Aviation Administration, Great Lakes Region, Detroit Airports District Office, DET ADO-608, 11677 South Wayne Road, Suite 107, Romulus, Michigan 48174. Telephone Number (734-229-2956)/FAX Number (734-229-2950). Documents reflecting this FAA action may be reviewed at this same location or at Rickenbacker International Airport, Columbus, Ohio.

SUPPLEMENTARY INFORMATION: Following is a legal description of the property situated in the State of Ohio, County of Pickaway, Township of Madison, Section 18, Township 10, Range 21 and Township of Harrison, Section 13, Township 3, Range 22 of the Congress Lands, and being part of (Tract 1) as conveyed to Columbus Municipal Airport Authority by deed of record in Official Record 514, Page 2561, records of the Recorder's Office, Pickaway County, Ohio, being more particularly described as follows: Beginning at the centerline intersection of Airbase road (County Road 237) and Ashville Pike (County Road 28), being an angle point in the said (Tract 1) boundary;

Thence North 03°43′38″ East, a distance of 2551.67 feet, along the centerline of said Ashville Pike to a point;

Thence the following three (3) courses and distances on, over and across the said (Tract 1):

1. South 86°24′00″ East, a distance of 2692.98 feet, to a point;

2. North 03°47′28″ East, a distance of 93.39 feet, to a point;

3. South 86°24′00″ East, a distance of 1564.12 feet, to an angle point in said (Tract 1) boundary, being the northwest corner of a 201.7757 acre tract conveyed to The Landings at Rickenbacker, LLC by deed of record in Official Record 263, Page 721;

Thence South 03°36′05″ West, a distance of 2603.18 feet, along the westerly line of said 201.7757 acre tract a line common to said (Tract 1) to the southwest corner of said 201.7757 acre tract, said corner being in the centerline of said Airbase Road;

Thence North 86°35′17″ West, a distance of 1572.77 feet, along the centerline of said Airbase Road and the southerly line of said (Tract 1) to a point at the intersection with Lockbourne Eastern Road (Township Road 31), being in the line between Madison and Harrison Townships;

Thence North 87°10′55″ West, a distance of 2690.50 feet, continuing the centerline of said Airbase Road and the southerly line of said (Tract 1) to the Point of Beginning, containing 250.357 acres, more or less.

The bearings shown herein are based on the bearing of North 87°10′55″ West for the centerline of Airbase Road being the most southerly boundary line of the 2995.065 acre (981.384 acre Pickaway County) (Tract 1).

Issued in Romulus, Michigan, on February 28, 2007.
Irene R. Porter,
Manager, Detroit Airports District Office, FAA, Great Lakes Region.

[FR Doc. 07-1204 Filed 3-14-07; 8:45 am]

BILLING CODE 4910-13-M